DEPARTMENT OF HOMELAND SECURITY

Coast Guard

33 CFR Part 165

[Docket Number USCG-2014-0300]

RIN 1625-AA00

Safety Zones; Fireworks Displays in the Sector Columbia River Captain of the Port Zone

AGENCY: Coast Guard, DHS.

ACTION: Notice of proposed rulemaking.

SUMMARY: The Coast Guard proposes to add twenty four new fireworks events at various locations in the Sector Columbia River Captain of the Port zone. The Coast Guard also proposes to correct the location of some existing fireworks events in the Sector Columbia River Captain of the Port zone. In addition, the Coast Guard proposes to change the format of the existing regulation by using a table to list each fireworks. When these safety zones are activated and subject to enforcement, this rule would limit the movement of vessels within the established firework display areas. These additional safety zones and corrections to existing safety zones are necessary to prevent injury and to protect life and property of the maritime public from hazards associated with fireworks displays.

DATES: Comments and related material must be received by the Coast Guard on or before July 18, 2014.

Requests for public meetings must be received by the Coast Guard on or before June 25, 2014.

ADDRESSES: You may submit comments identified by docket number USCG-2014-xxxx using any one of the following methods:

(1) Federal eRulemaking Portal: http://www.regulations.gov

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email LTJG Ian McPhillips, Waterways Management Division, Marine Safety Unit Portland, Coast Guard; telephone 503-240-9319, email msupdxwwm@uscg.mil. If you have questions on viewing or submitting material to the docket, call Renee V. Wright, Program Manager, Docket Operations, telephone (202) 366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2014-0300] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov type the docket number [USCG-2014-0300] in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not plan on holding a public meeting. But you may submit a request for one, using one of the methods specified under ADDRESSES. Please explain why you believe a public meeting would be beneficial. If we determine that one would aid this rulemaking, we will hold one at a time and place announced by a later notice in the Federal Register.

B. Basis and Purpose

The legal basis for these proposed regulations is 33 U.S.C. 1231; 46 U.S.C. Chapter 701, 3306, 3703; 50 U.S.C. 191, 195; 33 CFR 1.05-1, 6.04-1, 6.04-6, and 160.5; Public Law 107-295, 116 Stat. 2064; Department of Homeland Security Delegation No. 0170.1 which collectively authorize the Coast Guard to establish regulatory safety zones for safety and environmental purposes.

These proposed regulations are necessary to promote the safety of life on navigable waterways during various fireworks events located within the Captain of the Port Sector Columbia River zone.

C. Discussion of Proposed Rule

Fireworks displays create hazardous conditions for the maritime public because of the large number of vessels that congregate near the displays, as well as the noise, falling debris, and explosions that occur during the event. Because fireworks discharge sites can pose a hazard to the maritime public, these proposed regulations are necessary in order to restrict vessel movement and reduce vessel congregation in the proximity of the fireworks discharge sites. The proposed corrections to the locations of some of the fireworks events listed in 33 CFR 165.1315 as well as the additional 24 safety zones proposed in this NPRM would be implemented to help ensure the safe navigation of maritime traffic in the Sector Columba River Area of Responsibility during fireworks displays.

This rule also proposes to amend the following fireworks displays into a table format and update some event positions in order to accurately reflect the coordinates of the fireworks displays listed in 33 CFR 165.1315:

Event name (typically) | Event location | Date of event | Latitude | Longitude
Cinco de Mayo Fireworks Display | Portland, OR | One day in May | 45°30′55″ N | 122°40′13″ W
Portland Rose Festival Fireworks Display | Portland, OR | One day in May or June | 45°30′58″ N | 122°40′12″ W
Tri-City Chamber of Commerce Fireworks Display, Columbia Park | Kennewick, WA | One day in July | 46°13′47″ N | 119°08′47″ W
Cedco Inc. Fireworks Display | North Bend, OR | One day in July | 43°23′45″ N | 124°12′50″ W
Astoria-Warrenton 4th of July Fireworks | Astoria, OR | One day in July | 46°11′34″ N | 123°49′28″ W
Waterfront Blues Festival Fireworks | Portland, OR | One day in July | 45°30′24″ N | 122°40′04″ W
Oregon Symphony Concert Fireworks Display | Portland, OR | One day in August or September | 45°30′42″ N | 122°40′14″ W
Florence Independence Day Celebration | Florence, OR | One day in July | 43°58′10″ N | 124°05′50″ W
Oaks Park Association | Portland, OR | One day in July | 45°28′22″ N | 122°39′59″ W
City of Rainier/Rainier Days | Rainier, OR | One day in July | 46°05′46″ N | 122°56′18″ W
Ilwaco July 4th Committee Fireworks/Independence Day at the Port | Ilwaco, OR | One day in July | 46°18′17″ N | 124°01′55″ W
Celebrate Milwaukie | Milwaukie, OR | One day in July | 45°26′33 N | 122°38′44″ W
Splash Aberdeen Waterfront Festival | Aberdeen, WA | One day in July | 46°58′40″ N | 123°47′45″ W
City of Coos Bay July 4th Celebration/Fireworks Over the Bay | Coos Bay, OR | One day in July | 43°22′06″ N | 124°12′24″ W
Arlington 4th of July | Arlington, OR | One day in July | 45°43′23″ N | 120°12′11 W
East County 4th of July Fireworks | Gresham, OR | One day in July | 45°33′33″ N | 122°27′03″ W
Port of Cascade Locks 4th of July Fireworks Display | Cascade Locks, OR | One day in July | 45°40′15″ N | 121°53′43″ W
Astoria Regatta | Astoria, OR | One day in August | 46°11′34″ N | 123°49′28″ W
Washougal 4th of July | Washougal, WA | One day in July | 45°34′32″ N | 122°22′53″ W
City of St. Helens 4th of July Fireworks Display | St. Helens, OR | One day in July | 45°51′51″ N | 122°47′22″ W
Waverly Country Club 4th of July Fireworks Display | Milwaukie, OR | One day in July | 45°27′03″ N | 122°39′18″ W
Booming Bay Fireworks | Westport, WA | One day in July | 46°54′14″ N | 124°06′08″ W
Hood River 4th of July | Hood River, OR | One day in July | 45°42′58″ N | 121°30′31″ W
Rufus 4th of July Fireworks | Rufus, OR | One day in July | 45°41′30″ N | 120°45′47″ W

This rule proposes to add twenty four new fireworks display locations, and proposes to change the title of 33 CFR 165.1315 to “Safety Zones; Annual Fireworks Displays within the Sector Columbia River Captain of the Port Zone.” 33 CFR 3.65-15.

This rule proposes to add the following fireworks displays:

Event name (typically) | Event location | Date of event | Latitude | Longitude
Newport High School Graduation Fireworks Display | Newport, OR | One day in June | 44°36′48″ N | 124°04′10″ W
Willamette Falls Heritage Festival | Oregon City, OR | One day in October | 45°21′44″ N | 122°36′21″ W
Winchester Bay 4th of July Fireworks Display | Winchester Bay, OR | One day in July | 43°40′56″ N | 124°11′13″ W
Brookings, OR July 4th Fireworks Display | Brookings, OR | One day in July | 42°02′39″ N | 124°16′14″ W
Maritime Heritage Festival | St. Helens, OR | One day in July | 45°51′51″ N | 122°47′22″ W
Lynch Picnic | West Linn, OR | One day in July | 45°23′43″ N | 122°37′58″ W
Yachats 4th of July | Yachats, OR | One day in July | 44°18′38″ N | 124°06′27″ W
Lincoln City 4th of July | Lincoln City, OR | One day in July | 44°55′28″ N | 124°01′31″ W
July 4th Party at the Port of Gold Beach | Gold Beach, OR | One day in July | 42°25′26″ N | 124°25′03″ W
Gardiner 4th of July | Gardiner, OR | One day in July | 43°43′55″ N | 124°06′48″ W
Huntington 4th of July | Huntington, OR | One day in July | 44°18′02″ N | 117°13′33″ W
Toledo Summer Festival | Toledo, OR | One day in July | 44°37′08″ N | 123°56′24″ W
Port Orford 4th of July | Port Orford, OR | One day in July | 42°44′31″ N | 124°29′30″ W
Hood River 4th of July | Hood River, OR | One day in July | 45°42′58″ N | 121°30′31″ W
The Dalles Area Chamber of Commerce Fourth of July | The Dalles, OR | One day in July | 45°36′18″ N | 121°10′23″ W
Roseburg Hometown 4th of July | Roseburg, OR | One day in July | 43°12′59″ N | 123°22′13″ W
Newport 4th of July | Newport, OR | One day in July | 44°37′41″ N | 124°02′54″ W
First Friday Milwaukie | Milwaukie, OR | One day in September | 45°26′33″ N | 122°38′44″ W
The Mill Casino Independence Day | North Bend, OR | One day in July | 43°23′41″ N | 124°12′49″ W
Waldport 4th of July | Waldport, OR | One day in July | 44°25′31″ N | 124°04′44″ W
Westport 100th Anniversary | Westport, WA | One day in June | 46°54′17″ N | 124°05′57″ W
Westport 4th of July | Westport, WA | One day in July | 46°54′17″ N | 124°05′57″ W
The 4th of July at Perkin Ferry | Ridgefield, WA | One day in July | 45°52′06″ N | 122°43′53″ W
Leukemia and Lymphoma Light the Night Fireworks Display | Portland, OR | One day in October | 45°31′13″ N | 122°40′13″ W

These safety zones will extend on and under the waters, 450 yards from the radius of the launch site described above. This zone size allows for the use of up to a 16″ mortar shell in annual fireworks displays. These zones are nominal in size and are typically positioned in areas which allow for transit around the zone. Thus, these zones have an inconsequential impact on the majority of waterway users. These zones are also short in duration and waterway users will be permitted to enter or transit through the zone when deemed safe by the on-scene patrol commander.

D. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. The Coast Guard bases this finding on the fact that the safety zones listed will be in place for a limited period of time and are minimal in duration.

2. Impact on Small Entities

Under the Regulatory Flexibility Act (5 U.S.C. 601-612), we have considered the impact of this proposed rule on small entities. The Coast Guard certifies under 5 U.S.C. 605(b) that this proposed rule will not have a significant economic impact on a substantial number of small entities.

(1) This rule may affect the following entities, some of which may be small entities: The owners and operators of vessels intending to operate in the area covered by the safety zone. The rule will not have a significant economic impact on a substantial number of small entities because the safety zones will only be in effect for a limited period of time. Additionally, vessels can still transit through the zone with the permission of the Captain of the Port. Before the effective period, we will publish advisories in the Local Notice to Mariners available to users of the river. Maritime traffic will be able to schedule their transits around the safety zone.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard. The Coast Guard will not retaliate against small entities that question or complain about this proposed rule or any policy or action of the Coast Guard.

4. Collection of Information

This proposed rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this proposed rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children From Environmental Health Risks and Safety Risks. This rule is not an economically significant rule and would not create an environmental risk to health or risk to safety that might disproportionately affect children.

11. Indian Tribal Governments

This proposed rule does not have tribal implications under Executive Order 13175, Consultation and Coordination With Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. This proposed rule involves the amendment to existing safety zones to reflect the correct position of the fireworks launch location and the addition of safety zones in 33 CFR 165.1315. This rule is categorically excluded from further review under paragraph 34(g) of Figure 2-1 of the Commandant Instruction. A preliminary environmental analysis checklist supporting this determination and a Categorical Exclusion Determination are available in the docket where indicated under ADDRESSES. We seek any comments or information that may lead to the discovery of a significant environmental impact from this proposed rule.

List of Subjects in 33 CFR Part 165

Harbors, Marine safety, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Revise subpart § 165.1315 to read as follows:

§ 165.1315 Safety Zones; Annual Fireworks Displays within the Sector Columbia River Captain of the Port Zone.

(a) Safety Zones. The following areas are designated safety zones:

All waters of the Columbia River and its tributaries. All waters of the Siuslaw River, Yaquina River, Umpqua River as well as Washington and Oregon coasts, extending to a 450 yard radius with a 50 yard variation from the following launch sites:

Event name (typically) | Event location | Date of event | Latitude | Longitude
Cinco de Mayo Fireworks Display | Portland, OR | One day in May | 45°30′55″ N | 122°40′13″ W
Portland Rose Festival Fireworks Display | Portland, OR | One day in May or June | 45°30′58″ N | 122°40′12″ W
Tri-City Chamber of Commerce Fireworks Display, Columbia Park | Kennewick, WA | One day in July | 46°13′47″ N | 119°08′47″ W
Cedco Inc. Fireworks Display | North Bend, OR | One day in July | 43°23′45″ N | 124°12′50″ W
Astoria-Warrenton 4th of July Fireworks | Astoria, OR | One day in July | 46°11′34″ N | 123°49′28″ W
Waterfront Blues Festival Fireworks | Portland, OR | One day in July | 45°30′24″ N | 122°40′04″ W
Oregon Symphony Concert Fireworks Display | Portland, OR | One day in August or September | 45°30′42″ N | 122°40′14″ W
Florence Independence Day Celebration | Florence, OR | One day in July | 43°58′10″ N | 124°05′50″ W
Oaks Park Association | Portland, OR | One day in July | 45°28′22″ N | 122°39′59″ W
City of Rainier/Rainier Days | Rainier, OR | One day in July | 46°05′46″ N | 122°56′18″ W
Ilwaco July 4th Committee Fireworks/Independence Day at the Port | Ilwaco, OR | One day in July | 46°18′17″ N | 124°01′55″ W
Celebrate Milwaukie | Milwaukie, OR | One day in July | 45°26′33 N | 122°38′44″ W
Splash Aberdeen Waterfront Festival | Aberdeen, WA | One day in July | 46°58′40″ N | 123°47′45″ W
City of Coos Bay July 4th/Fireworks Over the Bay | Coos Bay, OR | One day in July | 43°22′06″ N | 124°12′24″ W
Arlington 4th of July | Arlington, OR | One day in July | 45°43′23″ N | 120°12′11 W
East County 4th of July Fireworks | Gresham, OR | One day in July | 45°33′33″ N | 122°27′03″ W
Port of Cascade Locks 4th of July Fireworks Display | Cascade Locks, OR | One day in July | 45°40′15″ N | 121°53′43″ W
Astoria Regatta | Astoria, OR | One day in August | 46°11′34″ N | 123°49′28″ W
Washougal 4th of July | Washougal, WA | One day in July | 45°34′32″ N | 122°22′53″ W
City of St. Helens 4th of July Fireworks Display | St. Helens, OR | One day in July | 45°51′51″ N | 122°47′22″ W
Waverly Country Club 4th of July Fireworks Display | Milwaukie, OR | One day in July | 45°27′03″ N | 122°39′18″ W
Booming Bay Fireworks | Westport, WA | One day in July | 46°54′14″ N | 124°06′08″ W
Hood River 4th of July | Hood River, OR | One day in July | 45°42′58″ N | 121°30′31″ W
Rufus 4th of July Fireworks | Rufus, OR | One day in July | 45°41′30″ N | 120°45′47″ W
Leukemia and Lymphoma Light the Night Fireworks Display | Portland, OR | One day in October | 45°31′13″ N | 122°40′13″ W
Newport High School Graduation Fireworks Display | Newport, OR | One day in June | 44°36′48″ N | 124°04′10″ W
Willamette Falls Heritage Festival | Oregon City, OR | One day in October | 45°21′44″ N | 122°36′21″ W
Winchester Bay 4th of July Fireworks Display | Winchester Bay, OR | One day in July | 43°40′56″ N | 124°11′13″ W
Brookings, OR July 4th Fireworks Display | Brookings, OR | One day in July | 42°02′39″ N | 124°16′14″ W
Maritime Heritage Festival | St. Helens, OR | One day in July | 45°51′51″ N | 122°47′22″ W
Lynch Picnic | West Linn, OR | One day in July | 45°23′43″ N | 122°37′58″ W
Yachats 4th of July | Yachats, OR | One day in July | 44°18′38″ N | 124°06′27″ W
Lincoln City 4th of July | Lincoln City, OR | One day in July | 44°55′28″ N | 124°01′31″ W
July 4th Party at the Port of Gold Beach | Gold Beach, OR | One day in July | 42°25′26″ N | 124°25′03″ W
Gardiner 4th of July | Gardiner, OR | One day in July | 43°43′55″ N | 124°06′48″ W
Huntington 4th of July | Huntington, OR | One day in July | 44°18′02″ N | 117°13′33″ W
Toledo Summer Festival | Toledo, OR | One day in July | 44°37′08″ N | 123°56′24″ W
Port Orford 4th of July | Port Orford, OR | One day in July | 42°44′31″ N | 124°29′30″ W
Hood River 4th of July | Hood River, OR | One day in July | 45°42′58″ N | 121°30′31″ W
The Dalles Area Chamber of Commerce Fourth of July | The Dalles, OR | One day in July | 45°36′18″ N | 121°10′23″ W
Roseburg Hometown 4th of July | Roseburg, OR | One day in July | 43°12′59″ N | 123°22′13″ W
Newport 4th of July | Newport, OR | One day in July | 44°37′41″ N | 124°02′54″ W
First Friday Milwaukie | Milwaukie, OR | One day in September | 45°26′33″ N | 122°38′44″ W
The Mill Casino Independence Day | North Bend, OR | One day in July | 43°23′41″ N | 124°12′49″ W
Waldport 4th of July | Waldport, OR | One day in July | 44°25′31″ N | 124°04′44″ W
Westport 100th Anniversary | Westport, WA | One day in June | 46°54′17″ N | 124°05′57″ W
Westport 4th of July | Westport, WA | One day in July | 46°54′17″ N | 124°05′57″ W
The 4th of July at Perkin Ferry | Ridgefield, WA | One day in July | 45°52′06″ N | 122°43′53″ W

(b) Special requirements. Fireworks barges or launch sites on land used in locations stated in this rule shall display a sign. The sign will be affixed to the port and starboard side of the barge or mounted on a post 3 feet above ground level when on land and in close proximity to the shoreline facing the water labeled “FIREWORKS—DANGER—STAY AWAY.” This will provide on-scene notice that the safety zone is, or will, be enforced on that day. This notice will consist of a diamond shaped sign, 4 foot by 4 foot, with a 3 inch orange retro-reflective border. The word “DANGER' shall be 10 inch black block letters centered on the sign with the words “FIREWORKS” and “STAY AWAY” in 6 inch black block letters placed above and below the word “DANGER” respectively on a white background. An on-scene patrol vessel may enforce these safety zones at least 1 hour prior to the start and 1 hour after the conclusion of the fireworks display.

(c) Notice of enforcement. These safety zones will be activated and thus subject to enforcement, under the following conditions: The Coast Guard must receive and approve a marine event permit for each fireworks display and then the Captain of the Port will cause notice of the enforcement of these safety zones to be made by all appropriate means to provide notice to the affected segments of the public as practicable, in accordance with 33 CFR 165.7(a). The Captain of the Port will issue a Local Notice to Mariners notifying the public of activation and suspension of enforcement of these safety zones. Additionally, an on-scene Patrol Commander may be appointed to enforce the safety zones by limiting the transit of non-participating vessels in the designated areas described above.

(d) Regulations. In accordance with the general regulations in 33 CFR part 165, subpart C, no vessel operator may enter, transit, moor, or anchor within this safety zone, except for vessels authorized by the Captain of the Port or Designated Representative.

(e) Authorization. All vessel operators who desire to enter the safety zone must obtain permission from the Captain of the Port or Designated Representative by contacting either the on-scene patrol craft on VHF Ch 13 or Ch 16 or the Coast Guard Sector Columbia River Command Center via telephone at (503) 861-6211.

(f) Enforcement period. This rule will be enforced at least 1 hour before and 1 hour after the duration of the event each day a barge or launch site with a “FIREWORKS—DANGER—STAY AWAY” sign is located within any of the above designated safety zone locations and meets the criteria established in paragraphs (a), (b), and (c).

(g) Contact information. Questions about safety zones and related events should be addressed to COMMANDER (spw), MARINE SAFETY UNIT PORTLAND, Attention: Waterways Management Division, 6767 N. Basin Ave, Portland, OR 97217-3992.

Dated: April 23, 2014.
B.C. Jones,
Captain, U.S. Coast Guard, Captain of the Port, Sector Columbia River.

[FR Doc. 2014-14239 Filed 6-17-14; 8:45 am]

BILLING CODE 9110-04-P